DEPARTMENT OF TRANSPORTATION

Federal Aviation Administration

Revision of the Cancellation of Preparation of Environmental Impact Statement (EIS) for Ontario International Airport, Ontario, San Bernardino County, CA

AGENCY: Federal Aviation Administration (FAA), DOT.

ACTION: Revision of Notice of Cancellation of Preparation of Environmental Impact Statement.

SUMMARY: On December 1, 2006, the FAA terminated preparation of the EIS at Ontario International Airport (ONT) since there are no proposed projects ripe for review. Los Angeles World Airports, the airport owner, will continue to prepare a master plan for ONT.

FOR FURTHER INFORMATION CONTACT: Victor Globa, Environmental Protection Specialist, Federal Aviation Administration, Los Angeles Airports District Office, P.O. Box 92007, Los Angeles, California 90009-2007, Telephone: (310) 725-3637.

SUPPLEMENTARY INFORMATION: On December 1, 2006, the FAA issued a notice announcing it was canceling preparation of an EIS for Ontario International Airport, Ontario, San Bernardino County, California in the Federal Register (71 FR 74573). FAA is revising its notice to clarify Los Angeles World Airports will continue to prepare a master plan for ONT.

Dated: Issued In Hawthorne, California, on December 13, 2006.
Mark A. McClardy,
Manager, Airports Division, Western-Pacific Region, AWP-600.

[FR Doc. 06-9783 Filed 12-19-06; 8:45 am]

BILLING CODE 4910-13-M